SECURITIES AND EXCHANGE COMMISSION

[Release No. 34-72459; File No. SR-FINRA-2014-010]

Self-Regulatory Organizations; Financial Industry Regulatory Authority, Inc.; Notice of Withdrawal of Proposed Rule Change To Adopt FINRA Rule 2243 (Disclosure and Reporting Obligations Related to Recruitment Practices)

June 24, 2014.

On March 10, 2014, Financial Industry Regulatory Authority, Inc. (“FINRA”) filed with the Securities and Exchange Commission (“Commission”), pursuant to Section 19(b)(1) of the Securities Exchange Act of 1934 ¹ and Rule 19b-4 thereunder,² a proposed rule change to adopt FINRA Rule 2243, which would establish disclosure and reporting obligations related to member recruitment practices. The proposed rule change was published for comment in the Federal Register on March 28, 2014.³ To date, the Commission has received 189 comments on the proposal.⁴

¹ 15 U.S.C. 78s(b)(1).

² 17 CFR 240.19b-4.

³ See Securities Exchange Act Release No. 71786 (Mar. 24, 2014), 79 FR 17592 (Mar. 28, 2014).

⁴ See http://www.sec.gov/comments/sr-finra-2014-010/finra2014010.shtml.

On May 1, 2014, FINRA voluntarily extended the date for Commission action on the proposed rule change to June 26, 2014. On June 20, 2014, FINRA withdrew the proposed rule change (SR-FINRA-2014-010).

For the Commission, by the Division of Trading and Markets, pursuant to delegated authority.⁵
⁵ 17 CFR 200.30-3(a)(31).
Kevin M. O'Neill,
Deputy Secretary.

[FR Doc. 2014-15204 Filed 6-27-14; 8:45 am]

BILLING CODE 8011-01-P